DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Greenbrier Smokeless Coal Mining, LLC.

DATES: All comments on the petition must be received by MSHA's Office of Standards, Regulations, and Variances on or before February 11, 2026.

ADDRESSES: You may submit comments identified by Docket No. MSHA-2025-0389 by any of the following methods:

1. Federal eRulemaking Portal: https://www.regulations.gov. Follow the instructions for submitting comments for MSHA-2025-0389.

2. Fax: 202-693-9441.

3. Email: petitioncomments@dol.gov.

4. Regular Mail or Hand Delivery: MSHA, Office of Standards, Regulations, and Variances, Room C3522, 200 Constitution Ave. NW, Washington, DC 20210.

Attention: Jessica D. Senk, Acting Director, Office of Standards, Regulations, and Variances. Individuals may inspect copies of the petition and comments during normal business hours at the address listed above. Before visiting MSHA in person, call 202-693-9440 to make an appointment.

FOR FURTHER INFORMATION CONTACT: Jessica D. Senk, Office of Standards, Regulations, and Variances at 202-693-9440 (voice), Petitionsformodification@dol.gov (email), or 202-693-9441 (fax). These are not toll-free numbers.

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-057-C.

Petitioner: Greenbrier Smokeless Coal Mining, LLC, 4547 Anjean Road, Rupert, WV 25984.

Mine: Mountaineer Pocahontas No. 1 Mine, MSHA ID No. 46-09172, located in Greenbrier County, West Virginia.

Regulation Affected: 30 CFR 75.312(c), Main mine fan examinations and records.

Modification Request: The petitioner requests a modification of the existing standard, 30 CFR 75.312(c), Main mine fan examinations and records. Specifically, the petitioner is applying to use a simulated signal test every 31 days to manually create a pressure drop in the monitoring system without stopping the fan.

The petitioner states that:

(a) The mandatory safety standard for which this modification is requested is 30 CFR 75.312(c), which requires the automatic fan signal device for each main mine fan to be tested at least every 31 days by stopping the fan. Only personnel essential to evaluating the fan stoppage or restart are permitted underground during this test.

(b) The mine uses one main mine fan for ventilation.

(c) The current practice of stopping and restarting the fans for testing poses hazards, causes operational delays, and can damage equipment.

(d) Airflow disruption can lead to increased risk of fire or explosion.

(e) If a fan fails to restart quickly, a lengthy process involving examination and production halt is necessary.

(f) Repeated stopping and starting can also damage fan systems.

(g) The mine operates continuously with miners present 24 hours on weekdays and 15 hours +/− on weekends, and stopping fans disrupts operations and requires removing many miners.

(h) The mine does not liberate significant methane but has extensive sealed areas and old works, making reliable ventilation crucial.

(i) The petitioner seeks an alternative method to the mandatory safety standard, asserting it will provide the same or greater level of safety for miners.

The petitioner proposes the following alternative method:

(a) Simulated Signal Test (Every 31 days): A certified person will manually create a pressure drop in the monitoring system without stopping the fan to check if the signal device activates. The fan's electrical and mechanical systems will also be checked.

(b) Full Shutdown Test (Every 6 or 5-7 months): The fan will be stopped for testing less frequently, adhering to 30 CFR 75.312(c) requirements during these tests.

(c) Training and Documentation: Personnel will be trained on the new procedure. Records of training and test results will be kept and made available.

(d) Safety Measures: Alarms are installed at the fan and at a staffed location. The system is designed so any test failure triggers the same alarm as a fan stoppage.

There are no representatives of miners at Mountaineer Pocahontas No. 1 Mine. A copy of this Petition has been posted on the bulletin board as of September 24, 2025.

The petitioner asserts that the alternative method will guarantee no less than the same measure of protection afforded the miners under the mandatory standard.

Jessica D. Senk,
Acting Director, Office of Standards, Regulations, and Variances.

[FR Doc. 2026-00351 Filed 1-9-26; 8:45 am]

BILLING CODE 4520-43-P